DEPARTMENT OF DEFENSE

Department of the Air Force

[Docket ID: USAF-2013-0019]

Proposed Collection; Comment Request

AGENCY: Department of Defense/Department of the Air Force/673 Civil Engineer Natural Cultural Resources and Planning Section, DoD.

ACTION: Notice.

In compliance with Section 3506(c)(2)(A) of the Paperwork Reduction Act of 1995, the 673 Civil Engineer Natural Cultural Resources and Planning section announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by July 8, 2013.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to 673 Civil Engineer Natural Cultural Resources and Planning section, 7210 12th Street, Joint Base Elmendorf-Richardson, Alaska 99506-2620, ATTN: Mark Sledge, Joint Base Elmendorf-Richardson, Alaska 99506-2620, or call 673 Civil Engineer Natural Cultural Resources and Planning section, at 907-552-8609.

Title; Associated Form; and OMB Number: Recreational Access Permit System; OMB Control Number 0701-TBD.

Needs and Uses: The information collection requirement is necessary to track use of recreational resources controlled by the government by virtue of location. Logs used to de-conflict the recreational use of resources against military movements, military operational exercises and military drills; several live fire ranges are intertwined with recreational areas. The Recreational Access Permit System will detail when areas are not authorized for recreational use due to military requirements as well as provide contact listings in the event recreational users need to be notified of changes to the military activities schedule.

Affected Public: Individuals or households.

Annual Burden Hours: 2000.

Number of Respondents: 8000.

Responses per Respondent: 1.

Average Burden per Response: 15 minutes.

Frequency: On occasion.

SUPPLEMENTARY INFORMATION:

Summary of Information Collection

Respondents are recreational land users seeking to use recreational resources controlled by the government by virtue of location. The information collected is to ensure the safety of individuals using land which is concurrently used for military training; including live fire ranges. The system will notify users when recreational lands are not available for use and allow for de-confliction of use for multipurpose land on military installations. The system will also act as a last known location log should individuals using recreational lands become missing while using the access areas.

Dated: May 2, 2013.
Aaron Siegel,
Alternate OSD Federal Register Liaison Officer, Department of Defense.

[FR Doc. 2013-10872 Filed 5-7-13; 8:45 am]

BILLING CODE 5001-05-P